ENVIRONMENTAL PROTECTION AGENCY

[EPA-HQ-OPP-2006-0659; FRL-8086-7]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period April through June 2006 to control unforseen pest outbreaks.

FOR FURTHER INFORMATION CONTACT: See each emergency exemption or denial for the name of a contact person. The following information applies to all contact persons: Team Leader, Emergency Response Team, Registration Division (7505P), Office of Pesticide Programs, Environmental Protection Agency, 1200 Pennsylvania Ave., NW., Washington, DC 20460-0001; telephone number: (703) 308-8179.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions discussed above. If you have any questions regarding the applicability of this action to a particular entity, consult the person listed under FOR FURTHER INFORMATION CONTACT.

B. How Can I Get Copies of this Document and Other Related Information?

1. Docket. EPA has established a docket for this action under docket identification number (ID) EPA-HQ-OPP-2006-0659; FRL-8086-7. Publicly available docket materials are available either electrontronically at http://www.regulations.gov, or, if only available in hard copy, at the OPP Regulatory Public Docket in S-4400, One Potomac Yard (South Bldg.), 2777 S. Crystal Dr., Arlington, VA. The hours of operation of this Docket Facility is from 8:30 a.m. to 4 p.m., Monday through Friday, excluding legal holidays. The Docket facility telephone number is (703) 305-5805.

2. Electronic access. You may access this Federal Register document electronically through the EPA Internet under the “Federal Register” listings at http://www.epa.gov/fedrgstr.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Arkansas

State Plant Board

Specific: EPA authorized the use of coumaphos in beehives to control varroa mite and small hive beetle; April 25, 2006 to February 1, 2007. Contact: Stacey Groce.

EPA authorized the use of fomesafen on snap beans to control various broadleaf weeds; April 28, 2006 to September 15, 2006. Contact: Andrea Conrath.

California

Environmental Protection Agency, Department of Pesticide Regulation

Public Health: EPA authorized the use of resmethrin on all food crops to control the Western Encephalitis mosquito, the vector West Nile virus (WNV); July 11, 2006 to November 1, 2006. Contact: Princess Campbell.

EPA authorized the use of D-phenothrin (sumithrin) in overlap areas around residences and production areas of almonds, pastures, rice, and walnuts to control the Western Encephalitis mosquito, the vector West Nile virus (WNV); June 30, 2006 to November 1, 2006. Contact: Princess Campbell.

Specific: EPA authorized the use of tebuconazole on garlic to control garlic rust (Puccinia porri -P. allii); April 7, 2006 to July 3, 2006. This request was granted because existing fungicides registered for use on garlic are not effective at controlling the pathogen under high disease pressure. Contact: Libby Pemberton..

EPA authorized the use of myclobutanil on artichokes to control powdery mildew; June 23, 2006 effective August 18, 2006 to August 18, 2007. Contact: Stacey Groce.

EPA authorized the use of myclobutanil on bell and non-bell peppers to control powdery mildew; June 23, 2006 to May 31, 2007. Contact: Stacey Groce.

Colorado

Department of Agriculture

Crisis: On January 30, 2006, for the use of clothianidin on sugar beet seed to control beet leafhopper (vector of curly top virus). This program ended on/is expected to end on July 31, 2006. Contact: Stacey Groce.

Specific: EPA authorized the use of acibenzolar on onions to control iris yellow spot virus (Tospovirus (Bunyviridae Family); April 24, 2006 to September 1, 2006. Contact: Libby Pemberton.

EPA authorized the use of fluroxypyr on onions to control volunteer potatoes; June 6, 2006 to July 31, 2006. Contact: Stacey Groce.

Connecticut

Department of Environmental Protection

Specific: EPA authorized the use of azoxystrobin on tobacco to control blue mold; May 22, 2006 to December 31, 2006. Contact: Andrew Ertman.

Delaware

Department of Agriculture

Specific: EPA authorized the use of terbacil on watermelons to control morning glory and other annual broadleaf weeds; April 25, 2006 to June 15, 2006. Contact: Stacey Groce.

EPA authorized the use of fomesafen on snap beans to control various broadleaf weeds; April 28, 2006 to October 1, 2006. Contact: Andrea Conrath.

Florida

Department of Agriculture and Consumer Services

Quarantine: EPA authorized the use of myclobutanil on legume vegetables (except soybeans and foliage of legume vegetables (except soybeans to control soybean rust and the pathogen Phakopsora pachyrhizi; May 31, 2006 to May 31, 2009. Contact: Stacey Groce.

Specific: EPA authorized the use of thiophanate-methyl on fruiting vegetables to control white mold; April 24, 2006 to April 12, 2007. Contact: Andrew Ertman.

EPA authorized the use of thymol in beehives to control varroa mite; April 26, 2006 to March 15, 2007. Contact: Stacey Groce.

EPA authorized the use of penoxsulam in sovereign waters to control fluridone-resistant hydrilla; June 8, 2006 to November 1, 2006. Contact: Andrea Conrath.

EPA authorized the use of thiophanate-methyl on cotton to control fusarium hardlock; June 30, 2006 effective July 22, 2006 to July 21, 2007. Contact: Stacey Groce.

Idaho

Department of Agriculture

Specific: EPA authorized the use of thiabendazole on lentils to control Ascochyta blight; February 28, 2006 to June 1, 2006. Contact: Stacey Groce.

EPA authorized the use of fenpyroximate on hops to control spider mites; April 24, 2006 to September 15, 2006. Contact: Andrea Conrath.

EPA authorized the use of difenoconazole on sweet corn seed to control damping off and dieback fungal diseases; April 25, 2006 to April 25, 2007. Contact: Andrea Conrath.

EPA authorized the use of formetanate hydrochloride on dry bulb onions to control thrips; May 19, 2006 to September 15, 2006. Contact: Andrew Ertman.

Illinois

Department of Agriculture

Quarantine: EPA authorized the use of cyproconazole on soybeans to control soybean rust and the pathogen Phakopsora pachyrhizi; April 19, 2006 to April 19, 2009. Contact: Carmen Rodia.

Specific: EPA authorized the use of tebuconazole on wheat to control Fusarium head blight; April 5, 2006 to June 20, 2006. Contact: Libby Pemberton.

Indiana

Office of Indiana State Chemist

Specific: EPA authorized the use of thiophanate-methyl on blueberries to control various fungal diseases; April 24, 2006 to September 30, 2006. Contact: Andrew Ertman.

EPA authorized the use of fenbuconazole on blueberries to control mummyberry disease; April 25, 2006 to September 30, 2006. Contact: Andrew Ertman.

EPA authorized the use of fomesafen on snap beans to control various broadleaf weeds; April 28, 2006 to September 15, 2006. Contact: Andrea Conrath.

EPA authorized the use of thymol in beehives to control varroa mite; May 3, 2006 to March 15, 2007. Contact: Stacey Groce.

EPA authorized the use of tebuconazole on barley and wheat to control Fusarium head blight; May 19, 2006 to June 30, 2006. Contact: Libby Pemberton.

Iowa

Department of Agriculture and Land Stewardship

Quarantine: EPA authorized the use of cyproconazole on soybeans to control soybean rust and the pathogen Phakopsora pachyrhizi; April 19, 2006 to April 19, 2009. Contact: Carmen Rodia.

Specific: EPA authorized the use of sulfentrazone on strawberries to control broadleaf weeds; June 25, 2006 to December 15, 2006. Contact: Andrew Ertman.

Kansas

Department of Agriculture

Specific: EPA authorized the use of propiconazole on sorghum to control ergot (Claviceps africana); June 29, 2006 to December 31, 2006. Contact: Libby Pemberton..

EPA authorized the use of coumaphos in beehives to control varroa mite and small hive beetle; June 30, 2006 to February 1, 2007. Contact: Stacey Groce.

Kentucky

Department of Agriculture

Specific: EPA authorized the use of tebuconazole on wheat to control Fusarium head blight; April 5, 2006 to May 20, 2006. Contact: Libby Pemberton.

EPA authorized the use of azoxystrobin on tobacco to control target spot and frogeye; June 9, 2006 to October 15, 2006. Contact: Andrew Ertman.

Louisiana

Department of Agriculture and Forestry

Specific: EPA authorized the use of etofenprox on rice to control rice water weevil; April 3, 2006 to August 1, 2006. This request was granted because the rice weevil has the potential to cause significant rice yield losses in the absence of adequate control. Several registered pesticide alternatives exist, but have caused problems with drift and mortality in neighboring crawfish farms. The etofenprox product, a granular formulation, is less likely to drift and cause mortality. The product is used as a prophylactic against the rice weevil, similar to the former preferred control product, fipronil, which was voluntarily cancelled by the registrant. Contact: Libby Pemberton.

EPA authorized the use of halosulfuron-methyl on sweet potatoes to control purple nutsedge; April 24, 2006 to August 1, 2006. Contact: Andrew Ertman.

EPA authorized the use of methoxyfenozide on soybeans to control soybean loopers; April 26, 2006 effective May 15, 2006 to September 30, 2006. Contact: Stacey Groce.

EPA authorized the use of bifenthrin on sweet potato to control soil beetles and the sweet potato weevil; May 15, 2006 to November 30, 2006. Contact: Andrea Conrath.

Maine

Department of Agriculture, Food, and Rural Resources

Quarantine: EPA authorized the use of chlorophene (Environ LpH on washable, hard non-porous surfaces, items and laboratory waste solutions to control prions; July 11, 2006 to July 11, 2009. Contact: Princess Campbell.

Specific: EPA authorized the use of coumaphos in beehives to control varroa mite and small hive beetle; April 6, 2006 to February 1, 2007. Contact: Stacey Groce.

EPA authorized the use of fomesafen on dry beans to control various broadleaf weeds; April 28, 2006 to July 15, 2006. Contact: Andrea Conrath.

Maryland

Department of Agriculture

Quarantine: EPA authorized the use of cyproconazole on soybeans to control soybean rust and the pathogen Phakopsora pachyrhizi; April 19, 2006 to April 19, 2009. Contact: Carmen Rodia.

Specific: EPA authorized the use of terbacil on watermelons to control annual broadleaf weeds; April 25, 2006 to June 30, 2006. Contact: Stacey Groce.

EPA authorized the use of fomesafen on snap beans to control various broadleaf weeds; April 28, 2006 to September 15, 2006. Contact: Andrea Conrath.

Massachusetts

Massachusetts Department of Food and Agriculture

Specific: EPA authorized the use of pronamide on cranberries to control dodder; April 7, 2006 to June 15, 2006. Contact: Andrew Ertman.

EPA authorized the use of azoxystrobin on tobacco to control blue mold; May 22, 2006 to December 31, 2006. Contact: Andrew Ertman.

Michigan

Michigan Department of Agriculture

Specific: EPA authorized the use of thymol in beehives to control varroa mite; April 6, 2006 to April 6, 2007. Contact: Stacey Groce.

EPA authorized the use of tebuconazole on wheat to control Fusarium head blight; April 14, 2006 to June 25, 2006. Contact: Libby Pemberton.

EPA authorized the use of fomesafen on snap beans to control various broadleaf weeds; April 28, 2006 to August 30, 2006. Contact: Andrea Conrath.

EPA authorized the use of fomesafen on dry beans to control various broadleaf weeds; April 28, 2006 to August 15, 2006. Contact: Andrea Conrath.

EPA authorized the use of tebuconazole on asparagus to control rust; May 1, 2006 to November 1, 2006. Contact: Libby Pemberton.

EPA authorized the use of sulfentrazone on strawberries to control broadleaf weeds; June 25, 2006 to December 15, 2006. Contact: Andrew Ertman.

Minnesota

Department of Agriculture

Quarantine: EPA authorized the use of metconazole on soybeans to control soybean rust and the pathogen Phakopsora pachyrhizi; April 19, 2006 to April 19, 2009. Contact: Carmen Rodia.

EPA authorized the use of chlorophene (Environ LpH on washable, hard non-porous surfaces, items and laboratory waste solutions to control prions; May 25, 2006 to May 25, 2009. Contact: Princess Campbell.

Specific: EPA authorized the use of tebuconazole on wheat and barley to control Fusarium head blight; April 14, 2006 to September 1, 2006. Contact: Libby Pemberton.

EPA authorized the use of fomesafen on dry beans to control various broadleaf weeds; April 28, 2006 to August 15, 2006. Contact: Andrea Conrath.

Mississippi

Department of Agriculture and Commerce

Specific: EPA authorized the use of methoxyfenozide on soybeans to control salt marsh caterpillars, soybean loopers, and armyworms; June 1, 2006 to September 30, 2006. Contact: Andrew Ertman.

Missouri

Department of Agriculture

Quarantine: EPA authorized the use of cyproconazole on soybeans to control soybean rust and the pathogen Phakopsora pachyrhizi; April 19, 2006 to April 19, 2009. Contact: Carmen Rodia.

Specific: EPA authorized the use of fomesafen on snap beans to control various broadleaf weeds; April 28, 2006 to September 10, 2006. Contact: Andrea Conrath.

Nebraska

Department of Agriculture

Quarantine: EPA authorized the use of cyproconazole on soybeans to control soybean rust and the pathogen Phakopsora pachyrhizi; April 19, 2006 to April 19, 2009. Contact: Carmen Rodia.

Nevada

Department of Agriculture

Specific: EPA authorized the use of bifenazate on timothy to control Banks grass mite; April 12, 2006 to September 1, 2006. Contact: Libby Pemberton.

New Jersey

Department of Environmental Protection

Specific: EPA authorized the use of thiophanate-methyl on blueberries to control various fungal diseases; April 24, 2006 to June 15, 2006. Contact: Andrew Ertman.

EPA authorized the use of thiophanate-methyl on tomatoes to control white mold; April 24, 2006 to October 31, 2006. Contact: Andrew Ertman.

EPA authorized the use of pronamide on cranberries to control dodder; April 30, 2006 to December 15, 2006. Contact: Andrew Ertman.

EPA authorized the use of coumaphos in beehives to control varroa mite and small hive beetle; April 25, 2006 to February 1, 2007. Contact: Stacey Groce.

EPA authorized the use of thymol in beehives to control varroa mite; April 26, 2006 to March 15, 2007. Contact: Stacey Groce.

New Mexico

Department of Agriculture

Specific: EPA authorized the use of myclobutanil on chile and bell peppers to control powdery mildew; June 23, 2006 to October 15, 2006. Contact: Stacey Groce.

New York

Department of Environmental Conservation

Specific: EPA authorized the use of quinoxyfen on non-edible cucurbits to control powdery mildew; July 1, 2006 to September 30, 2006. Contact: Stacey Groce.

North Carolina

Department of Agriculture

Specific: EPA authorized the use of halosulfuron-methyl on sweet potatoes to control sedges; May 26, 2006 to August 30, 2006. Contact: Andrew Ertman.

EPA authorized the use of azoxystrobin on tobacco to control target spot; June 1, 2006 to October 15, 2006. Contact: Andrew Ertman.

North Dakota

Department of Agriculture

Crisis: On January 30, 2006, for the use of clothianidin on sugar beet seed to control beet leafhopper (vector of curly top virus). This program ended on/is expected to end on July 31, 2006. Contact: Stacey Groce.

Specific: EPA authorized the use of tebuconazole on wheat and barley to control Fusarium head blight; April 14, 2006 to September 1, 2006. Contact: Libby Pemberton.

EPA authorized the use of coumaphos in beehives to control varroa mite and small hive beetle; May 15, 2006 to February 1, 2007. Contact: Stacey Groce.

Ohio

Department of Agriculture

Specific: EPA authorized the use of thiophanate-methyl on tomatoes and peppers to control white mold; May 15, 2006 to September 30, 2006. Contact: Andrew Ertman.

EPA authorized the use of dimethenamid-p on green onion to control common purslane and prostrate pigweed; May 3, 2006 to August 31, 2006. Contact: Stacey Groce.

Oklahoma

Department of Agriculture

Specific: EPA authorized the use of fomesafen on snap beans to control various broadleaf weeds; April 28, 2006 to September 10, 2006. Contact: Andrea Conrath.

Oregon

Department of Agriculture

Crisis: On January 30, 2006, for the use of clothianidin on sugar beet seed to control beet leafhopper (vector of curly top virus). This program ended or/is expected to end on July 31, 2006. Contact: Stacey Groce.

On May 10, 2006, for the use of fipronil on rutabaga and turnip to control cabbage maggots. This program is expected to end on September 30, 2006. Contact: Andrea Conrath.

Specific: EPA authorized the use of mesotrione on cranberries to control bog St. John's wort (Hypericum boreala), rushes (Juncus Canadensis, J. effuses, J. Bufonlus, J. Tenuis), sedges spp. (Carex spp.), yellow loosestrife (Lysimachia terrestris),and silverleaf (Potentilla pacifica); April 21, 2006 to October 15, 2006. Contact: Libby Pemberton.

EPA authorized the use of bifenthrin on orchardgrass grown for seed to control the orchardgrass billbug; April 21, 2006 to November 15, 2006. Contact: Andrea Conrath.

EPA authorized the use of formetanate hydrochloride on dry bulb onions to control thrips; May 19, 2006 to September 15, 2006. Contact: Andrew Ertman.

Rhode Island

Department of Environmental Management

Specific: EPA authorized the use of pronamide on cranberries to control dodder; April 7, 2006 to June 15, 2006. Contact: Andrew Ertman.

South Carolina

Clemson University

Specific: EPA authorized the use of thymol in beehives to control varroa mite; May 3, 2006 to March 15, 2007. Contact: Stacey Groce.

South Dakota

Department of Agriculture

Quarantine: EPA authorized the use of metconazole on soybeans to control soybean rust and the pathogen Phakopsora pachyrhizi; April 19, 2006 to April 19, 2009. Contact: Carmen Rodia.

Specific: EPA authorized the use of tebuconazole on barley and wheat to control Fusarium head blight; May 19, 2006 to August 31, 2006. Contact: Libby Pemberton.

Tennessee

Department of Agriculture

Quarantine: EPA authorized the use of myclobutanil on legume vegetables (except soybeans and foliage of legume vegetables (except soybeans to control soybean rust and the pathogen Phakopsora pachyrhizi; May 31, 2006 to May 31, 2009. Contact: Stacey Groce.

Specific: EPA authorized the use of azoxystrobin on tobacco to control target spot and frogeye; May 22, 2006 to October 15, 2006. Contact: Andrew Ertman.

Texas

Department of Agriculture

Crisis: On June 21, 2006, for the use of diuron in bass ponds to control blue-green algae. This program ended on/is expected to end on November 1, 2006. Contact: Libby Pemberton.

Specific: EPA authorized the use of hexythiazox on field corn to control mites; June 1, 2006 to August 31, 2006. Contact: Andrew Ertman.

EPA authorized the use of coumaphos in beehives to control varroa mite and small hive beetle; May 19, 2006 to February 1, 2007. Contact: Stacey Groce.

Utah

Department of Agriculture

Specific: EPA authorized the use of bifenazate on tart cherries to control two-spotted spider mite (Tetranychus urticae Koch); McDaniel mite (Tetranychus mcdanieli Mcgregor); and European red mite (Panonychus ulmi (Koch); June 2, 2006 to September 1, 2006. Contact: Libby Pemberton.

Vermont

Department of Agriculture

Specific: EPA authorized the use of fenbuconazole on blueberries to control mummy berry disease; May 31, 2006 to September 1, 2006. Contact: Andrew Ertman.

EPA authorized the use of thymol in beehives to control varroa mite; April 24, 2006 to March 15, 2007. Contact: Stacey Groce.

Virginia

Department of Agriculture and Consumer Services

Specific: EPA authorized the use of terbacil on watermelon to control morning glory; April 6, 2006 to August 15, 2006. Contact: Stacey Groce.

EPA authorized the use of fomesafen on snap beans to control various broadleaf weeds; April 28, 2006 to September 30, 2006. Contact: Andrea Conrath.

EPA authorized the use of azoxystrobin on tobacco to control target spot and frogeye; June 1, 2006 to October 15, 2006. Contact: Andrew Ertman.

Washington

Department of Agriculture

Specific: EPA authorized the use of mesotrione on cranberries to control bog St. John's wort(Hypericum boreala), rushes (Juncus Canadensis, J. effuses, J. Bufonlus,J. Tenuis), sedges spp. (Carex spp.), yellow loosestrife (Lysimachia terrestris),and silverleaf (Potentilla pacifica); April 21, 2006 to October 15, 2006. Contact: Libby Pemberton.

EPA authorized the use of fenpyroximate on hops to control spider mites; April 24, 2006 to September 15, 2006. Contact: Andrea Conrath.

Wisconsin

Department of Agriculture, Trade, and Consumer Protection

Specific: EPA authorized the use of sulfentrazone on strawberries to control common groundsel; June 20, 2006 to December 15, 2006. Contact: Andrew Ertman.

Wyoming

Department of Agriculture

Crisis: On January 30, 2006, for the use of clothianidin on sugar beet seed to control beet leafhopper (vector of curly top virus). This program ended is expected to end on July 31, 2006. Contact: Stacey Groce.

Specific: EPA authorized the use of lambda-cyhalothrin on barley to control Russian wheat aphids, cereal leaf beetles, and cutworms; April 14, 2006 to July 31, 2006. Contact: Andrew Ertman.

EPA authorized the use of coumaphos in beehives to control varroa mite and small hive beetle; April 25, 2006 to February 1, 2007. Contact: Stacey Groce.

B. Federal Departments and Agencies

Agriculture Department

Animal and Plant Health Inspector Service

Quarantine: EPA authorized the use of brodifacoum on Congo Ca, in the U.S. Virgin Islands to eradicate non-native rats; May 12, 2006 to June 21, 2009. Contact: Princess Campbell.

List of Subjects

Environmental protection, Pesticides and pest.

Dated: August 16, 2006.
Lois A. Rossi,
Director, Registration Division, Office of Pesticide Programs.

[FR Doc. E6-14053 Filed 8-24-06; 8:45 am]

BILLING CODE 6560-50-S